NATIONAL CREDIT UNION ADMINISTRATION

Sunshine Act Meetings

TIME AND DATE: 10:00 a.m., Thursday, September 18, 2014.

PLACE: Board Room, 7th Floor, Room 7047, 1775 Duke Street (All visitors must use Diagonal Road Entrance), Alexandria, VA 22314-3428.

STATUS: Open.

MATTERS TO BE CONSIDERED: 1. NCUA's Rules and Regulations, Technical Amendments.

2. First Service Federal Credit Union (Groveport, Ohio), Request to Expand Community Charter.

3. Corporate Stabilization Fund Quarterly Report.

RECESS: 11:00 a.m.

TIME AND DATE: 11:15 a.m., Thursday, September 18, 2014.

PLACE: Board Room, 7th Floor, Room 7047, 1775 Duke Street, Alexandria, VA 22314-3428.

STATUS: Closed.

MATTERS TO BE CONSIDERED:

1. Consideration of Supervisory Activities. Closed pursuant to Exemption (8).

2. Share Insurance Appeal. Closed pursuant to Exemption (6).

3. Personnel. Closed pursuant to Exemption (2).

FOR FURTHER INFORMATION CONTACT: Gerard Poliquin, Secretary of the Board, Telephone: 703-518-6304.

Gerard Poliquin,
Secretary of the Board.

[FR Doc. 2014-22161 Filed 9-12-14; 4:15 pm]

BILLING CODE 7535-01-P